INTERNATIONAL TRADE COMMISSION

[Investigation No. 337-TA-974]

Certain Aquarium Fittings and Parts Thereof; Commission Determination Not To Review an Initial Determination Terminating the Investigation; Issuance of Consent Order and Termination of the Investigation

AGENCY: U.S. International Trade Commission.

ACTION: Notice.

SUMMARY: Notice is hereby given that the U.S. International Trade Commission has determined not to review the presiding administrative law judge's (“ALJ”) initial determination (“ID”) (Order No. 10) terminating the above-captioned investigation based on a consent order stipulation, consent order, and settlement agreement. The Commission has issued the consent order and determined to terminate the investigation.

FOR FURTHER INFORMATION CONTACT: Clint Gerdine, Office of the General Counsel, U.S. International Trade Commission, 500 E Street SW., Washington, DC 20436, telephone (202) 708-2310. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 11, 2015, based on a complaint filed by HYDOR USA Inc. of Sacramento, California. 80 FR 77019-20 (Dec. 11, 2015). The complaint alleged violations of section 337 of the Tariff Act of 1930, as amended, 19 U.S.C. 1337, by reason of infringement of certain claims of U.S. Patent No. 8,191,846. The complaint further alleged that a domestic industry exists. The Commission's Notice of Investigation named Jebao Co., Ltd. of Zhongshan City, China as the sole respondent.

On April 18, 2016, complainant and the sole respondent moved for termination of the investigation based on a consent order stipulation and a settlement agreement. The Commission investigative attorney supported the motion.

On May 4, 2016, the ALJ issued the subject ID (Order No. 10) granting the joint motion and finding that the motion for termination satisfies Commission Rules 210.21(a)(1) and (b)(1), termination is in the public interest, and that no “extraordinary circumstances” exist that would preclude granting the motion. No party petitioned for review of the ID.

The Commission has determined not to review the ID and has issued the consent order and terminated the investigation.

The authority for the Commission's determination is contained in section 337 of the Tariff Act of 1930, as amended (19 U.S.C. 1337), and in Part 210 of the Commission's Rules of Practice and Procedure (19 CFR part 210).

By order of the Commission.
Issued: June 2, 2016.
Lisa R. Barton,
Secretary to the Commission.

[FR Doc. 2016-13495 Filed 6-7-16; 8:45 am]

BILLING CODE 7020-02-P